DEPARTMENT OF ENERGY

Federal Energy Regulatory Commission

Combined Notice of Filings #1

Take notice that the Commission received the following electric rate filings:

Docket Numbers: ER15-1976-002.

Applicants: Southwest Power Pool, Inc.

Description: Compliance filing: East River Electric Power Cooperative Formula Rate Compliance Filing to be effective 10/1/2015.

Filed Date: 11/3/16.

Accession Number: 20161103-5122.

Comments Due: 5 p.m. ET 11/25/16.

Docket Numbers: ER16-2725-000.

Applicants: PSEG Energy Solutions LLC.

Description: Errata (Appendix B and E) to the October 27, 2016 Amendment to September 30, 2016 PSEG Energy Solutions LLC tariff filing.

Filed Date: 11/3/16.

Accession Number: 20161103-5111.

Comments Due: 5 p.m. ET 11/25/16.

Docket Numbers: ER17-305-000.

Applicants: Midcontinent Independent System Operator, Inc., Ameren Illinois Company, Ameren Transmission Company of Illinois, Northern States Power Company, a Minnesota corporation.

Description: § 205(d) Rate Filing: 2016-11-03_AIC-ATXI-NSP Attachment O revisions related to ADIT calculations to be effective 1/1/2017.

Filed Date: 11/3/16.

Accession Number: 20161103-5127.

Comments Due: 5 p.m. ET 11/25/16.

Docket Numbers: ER17-306-000.

Applicants: Beacon Solar 3, LLC.

Description: Baseline eTariff Filing: Beacon Solar 3, LLC MBR Tariff to be effective 11/4/2016.

Filed Date: 11/3/16.

Accession Number: 20161103-5128.

Comments Due: 5 p.m. ET 11/25/16.

Docket Numbers: ER17-307-000.

Applicants: PECO Energy Company.

Description: Notice of cancellation of Interconnection Service Agreement No. 791 of PECO Energy Company.

Filed Date: 11/3/16.

Accession Number: 20161103-5167.

Comments Due: 5 p.m. ET 11/25/16.

Take notice that the Commission received the following qualifying facility filings:

Docket Numbers: QF16-806-000.

Applicants: Bi-County Gas Producers, LLC.

Description: Refund Report of Bi-County Gas Producers, LLC.

Filed Date: 11/2/16.

Accession Number: 20161102-5199.

Comments Due: 5 p.m. ET 11/23/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 4, 2016.
Nathaniel J. Davis, Sr.,
Deputy Secretary.

[FR Doc. 2016-27254 Filed 11-10-16; 8:45 am]

BILLING CODE 6717-01-P